DEPARTMENT OF COMMERCE

National Oceanic and Atmospheric Administration

RIN 0648-XD673

Marine Fisheries Advisory Committee

AGENCY: National Marine Fisheries Service (NMFS), National Oceanic and Atmospheric Administration (NOAA), Commerce.

ACTION: Notice of open public meetings.

SUMMARY: This notice sets forth the schedule and proposed agenda of a forthcoming meeting of the Marine Fisheries Advisory Committee (MAFAC). The members will discuss and provide advice on issues outlined in the agenda below.

DATES: The meeting is scheduled for January 12, 2015, 3-4:30 p.m., Eastern Standard Time.

ADDRESSES: Conference call. Public access is available at 1315 East-West Highway, Silver Spring, MD 20910.

FOR FURTHER INFORMATION CONTACT: Any member of the public wishing to attend may contact Heidi Lovett, (301) 427-8004; email: heidi.lovett@noaa.gov.

SUPPLEMENTARY INFORMATION: The MAFAC was established by the Secretary of Commerce (Secretary), and, since 1971, advises the Secretary on all living marine resource matters that are the responsibility of the Department of Commerce. The charter and other information are located online at http://www.nmfs.noaa.gov/ocs/mafac/.

Matters To Be Considered

The Committee is convening to discuss and finalize recommendations on the candidates for the new Climate and Marine Resources Task Force and the Aquaculture Task Force for submission to the NOAA Fisheries Assistant Administrator. Other administrative matters may be considered. This agenda is subject to change.

Special Accommodations

These meetings are physically accessible to people with disabilities. Requests for sign language interpretation or other auxiliary aids should be directed to Heidi Lovett, 301-427-8004 by January 2, 2015.

Dated: December 18, 2014.
Paul Doremus,
Deputy Assistant Administrator for Fisheries, National Marine Fisheries Service.

[FR Doc. 2014-30213 Filed 12-23-14; 8:45 am]

BILLING CODE 3510-22-P